DEPARTMENT OF THE INTERIOR

Bureau of Ocean Energy Management

[Docket No. BOEM-2023-0029]

Notice of Availability of a Joint Record of Decision (ROD) for the Ocean Wind LLC Proposed Wind Energy Facility Offshore New Jersey

AGENCY: Bureau of Ocean Energy Management (BOEM), Interior; National Marine Fisheries Service (NMFS), National Oceanic and Atmospheric Administration (NOAA), Commerce.

ACTION: Notice of Availability (NOA); record of decision (ROD).

SUMMARY: BOEM announces the availability of the joint ROD on the Final Environmental Impact Statement (EIS) for the construction and operations plan (COP) submitted by Ocean Wind LLC (Ocean Wind) for its Ocean Wind 1 Offshore Wind Farm Project (Project) offshore New Jersey. The joint ROD includes the decisions of the Department of the Interior (DOI) regarding the Ocean Wind 1 COP and NMFS regarding Ocean Wind LLC's requested Incidental Take Regulations (ITR) and an associated Letter of Authorization (LOA) under the Marine Mammal Protection Act (MMPA). NMFS has adopted the Final EIS to support its decision of whether or not to issue the requested ITR under the MMPA. The joint ROD concludes the National Environmental Policy Act (NEPA) process for each agency and is available with associated information on BOEM's website at: https://www.boem.gov/renewable-energy/state-activities/ocean-wind-1.

FOR FURTHER INFORMATION CONTACT: For information on the Project ROD, please contact Jessica Stromberg, BOEM Office of Renewable Energy Programs, 45600 Woodland Road, Sterling, Virginia 20166, (703) 787-1730, or Jessica.stromberg@boem.gov. For information related to NMFS' action, please contact Katherine Renshaw, NOAA Office of General Counsel, (302) 515-0324.

SUPPLEMENTARY INFORMATION: Ocean Wind seeks approval to construct, operate, and maintain the Project: a wind energy facility on the Outer Continental Shelf (OCS) offshore New Jersey. The Project would be developed within the range of design parameters outlined in the Ocean Wind 1 COP, subject to applicable mitigation measures. The Project as proposed in the COP would include up to 98 wind turbine generators (WTGs), up to 3 offshore high voltage alternating current substations, inter-array cables linking the individual turbines to the offshore substations, substation interconnector cables linking the substations to each other, offshore export cables, an onshore export cable system, 2 onshore substations, and connections to the existing electrical grid in New Jersey. The WTGs, offshore substations, inter-array cables, and substation interconnector cables would be located on the OCS approximately 13 nautical miles (15 statute miles) southeast of Atlantic City, New Jersey, within the area defined by Renewable Energy Lease OCS-A 0498 (Lease Area). The offshore export cables would be buried below the seabed surface in the OCS and State of New Jersey-owned submerged lands. The onshore export cables, substations, and grid connections would be located in Ocean County and Cape May County, New Jersey. After carefully considering alternatives described and analyzed in the Final EIS and comments from the public on the Draft EIS, the Department of the Interior has decided to approve the COP for Ocean Wind 1 under Alternative A (the Proposed Action) in combination with Alternative E (Submerged Aquatic Vegetation Avoidance Alternative), which is the Preferred Alternative identified in the FEIS and one of the three environmentally preferred alternatives identified in the ROD. The full text of the mitigation, monitoring, and reporting requirements, which will be included in BOEM's COP approval as terms and conditions, are available in the ROD, which is available on BOEM's website at: https://www.boem.gov/renewable-energy/state-activities/ocean-wind-1.

NMFS has adopted BOEM's Final EIS to support its decision making of whether or not to issue the requested ITR and associated LOA to Ocean Wind. NMFS' final decision of whether or not to issue the requested ITR and LOA will be documented in a separate Decision Memorandum prepared in accordance with internal NMFS policy and procedures. The ITR and associated LOA, if issued, will govern the authorization of take of marine mammals while prescribing the means of take as well as mitigation and monitoring requirements, including those mandated by the Biological Opinion issued to complete the formal Endangered Species Act Section 7 consultation process. The final ITR and a notice of issuance of the LOA, if issued, will be published in the Federal Register.

Authority: This Notice of Availability is published in accordance with regulations (40 CFR parts 1500-1508) implementing the National Environmental Policy Act of 1969, as amended (42 U.S.C. 4321 et seq.).

Karen Baker,
Chief, Office of Renewable Energy Programs, Bureau of Ocean Energy Management.

[FR Doc. 2023-14647 Filed 7-10-23; 8:45 am]

BILLING CODE 4340-98-P